FEDERAL ELECTION COMMISSION

Sunshine Act Meeting

AGENCY: Federal Election Commission.

DATE AND TIME: Thursday, December 10, 2015 at 10:00 a.m., Tuesday, December 15, 2015 at 10:00 a.m., and Thursday, December 17, 2015 at the Conclusion of the Open Meeting

PLACE: 999 E Street NW., Washington, DC.

STATUS: This Meeting Will Be Closed To The Public.

ITEMS TO BE DISCUSSED: Compliance matters pursuant to 52 U.S.C. 30109. Internal personnel rules and internal rules and practices. Matters concerning participation in civil actions or proceeding, or arbitration.

* * * * *

PERSON TO CONTACT FOR INFORMATION: Judith Ingram, Press Officer, Telephone: (202) 694-1220.

Shelley E. Garr,
Deputy Secretary.

[FR Doc. 2015-30896 Filed 12-3-15; 4:15 pm]

BILLING CODE 6715-01-P